DEPARTMENT OF TRANSPORTATION

Federal Railroad Administration

[Docket No. FRA-2000-7257; Notice No. 29]

Railroad Safety Advisory Committee (“RSAC”); Working Group Activity Update

AGENCY: Federal Railroad Administration (FRA), Department of Transportation (DOT).

ACTION: Announcement of Railroad Safety Advisory Committee (RSAC) working group activities.

SUMMARY: FRA is updating its announcement of RSAC's working group activities to reflect their current status.

FOR FURTHER INFORMATION CONTACT: Trish Butera or Lydia Leeds, RSAC Coordinators, FRA, 1120 Vermont Avenue, NW., Mailstop 25, Washington, DC 20590, (202) 493-6213 or Grady Cothen, Deputy Associate Administrator for Safety Standards and Program Development, FRA, 1120 Vermont Avenue, NW., Mailstop 25, Washington, DC 20590, (202) 493-6302.

SUPPLEMENTARY INFORMATION: This notice serves to update FRA's last announcement of working group activities and status reports on September 3, 2002, (67 FR 56341). The 20th full Committee meeting was held September 19, 2002, at the Almas Temple Club in Washington, DC. The 21st meeting is scheduled for May 20, 2003.

Since its first meeting in April of 1996, the RSAC has accepted 17 tasks. An additional task, Amendments to the Passenger Equipment Safety Standards (49 CFR part 238) and the Passenger Train Emergency Preparedness (49 CFR part 239) will be proposed at the next meeting. Status for each of the tasks is provided below:

Task 96-1—(Completed) Revising the Freight Power Brake Regulations. The final rule was published on January 17, 2001 (66 FR 4104). An amendment extending the effective date of the final rule until May 31, 2001, was published on February 12, 2001 (66 FR 9905). Amendments to subpart D of the final rule were published August 1, 2001 (66 FR 36983). Amendments responding to the remaining issues raised in petitions for reconsideration were published in the Federal Register on April 10, 2002 (67 FR 17556).

Task 96-2—(Completed) Reviewing and recommending revisions to the Track Safety Standards (49 CFR part 213). The final rule was published in the Federal Register on June 22, 1998 (63 FR 33991). The effective date of the rule was September 21, 1998. A task force was established to address Gage Restraint Measurement System (GRMS) technology applicability to the Track Safety Standards. The GRMS final rule amendment was published January 10, 2001 (66 FR 1894). On January 31, 2001, FRA published a notice extending the effective date of the GRMS amendment to April 10, 2001 (66 FR 8372). On February 8, 2001, FRA published a notice delaying the effective date until June 9, 2001, in accordance with the Regulatory Review Plan (66 FR 9676).

Task 96-3—(Completed) Reviewing and recommending revisions to the Radio Standards and Procedures (49 CFR part 220). The final rule was published on September 4, 1998 (63 FR 47182), and was effective on January 2, 1999.

Task 96-4—Reviewing the appropriateness of the agency's current policy regarding the applicability of existing and proposed regulations to tourist, excursion, scenic, and historic railroads. This Task was accepted on April 2, 1996, and a Working Group was established. The Working Group monitored the steam locomotive regulations task. Planned future activities involve the review of other regulations for possible adaptation to the safety needs of tourist and historic railroads. Contact: Grady Cothen (202) 493-6302.

Task 96-5—(Completed) Reviewing and recommending revisions to Steam Locomotive Inspection Standards (49 CFR part 230). The final rule was published on November 17, 1999 (64 FR 62828), and became effective January 18, 2000.

Task 96-6—(Completed) Reviewing and recommending revisions to miscellaneous aspects of the regulations addressing Locomotive Engineer Certification (49 CFR part 240). The final rule was published November 8, 1999 (64 FR 60966).

Task 96-7—Developing Roadway Maintenance Machine (On-Track Equipment) Safety Standards. This task was assigned to the existing Track Standards Working Group on October 31, 1996, and a Task Force was established. The Task Force finalized a proposed rule which was approved by the full RSAC in a mail ballot in August 2000. The NPRM was published January 10, 2001 (66 FR 1930). The Task Force met to review comments on February 27-March 1, 2002, and agreed to the disposition of the comments for the final rule. A Ballot was issued to the Working Group and all responders concurred. The RSAC approved the recommendations at the full RSAC meeting on May 29, 2002. The next step is to complete and publish the final rule. Contact: Al MacDowell (202) 493-6236.

Task 96-8—(Completed) This Planning Task evaluated the need for action responsive to recommendations contained in a report to Congress entitled, Locomotive Crashworthiness & Working Conditions. This Planning Task was accepted on October 31, 1996. A Planning Group was formed and reviewed the report, grouping issues into categories, and prepared drafts of the task statements for Tasks 97-1 and 97-2.

Task 97-1—Developing crashworthiness specifications to promote the integrity of the locomotive cab in accidents resulting from collisions. This Task was accepted on June 24, 1997. A Task Force on engineering issues was established by the Working Group on Locomotive Crashworthiness to review collision history and design options and additional research was commissioned. The Working Group reviewed results of the research and is drafting performance-based standards for freight and passenger locomotives to present to the RSAC for consideration. An accident review task force has evaluated the potential effectiveness of suggested improvements. The Working Group reached tentative agreement for a proposed rule. The NPRM and Regulatory Impact Analysis are being revised to reflect the changes. The next step is the Working Group review of the final NPRM draft. Contact: Sean Mehrvazi (202) 493-6108.

Task 97-2—Evaluating the extent to which environmental, sanitary, and other working conditions in locomotive cabs affect the crew's health and the safe operation of locomotives, proposing standards where appropriate. This Task was accepted June 24, 1997.

(Sanitation). (Completed) The final rule was published on April 4, 2002, with an effective date of July 3, 2002 (67 FR 16032). One petition for reconsideration was filed and is under review by FRA.

(Noise exposure.) The Cab Working Conditions Working Group met most recently in Chicago, November 12-14, 2002. A tentative consensus was reached on the draft rule text. Next steps are Working Group, then full RSAC approval of the NPRM in the spring.

The Cab Working Group has also considered issues related to cab temperature, and is expected to consider additional issues (such as vibration) in the future. No further action is planned at this time. Contact: Jeffrey Horn (202) 493-6283.

Task 97-3—Developing event recorder data survivability standards. This Task was accepted on June 24, 1997. The Event Recorder Working Group met actively in 2002, reviewing draft language for an NPRM. In mid-2003 a revised draft NPRM will be circulated to the Working Group for review and approval. Contact: Edward Pritchard (202) 493-6247.

Task 97-4 and Task 97-5—Defining Positive Train Control (PTC) functionalities, describing available technologies, evaluating costs and benefits of potential systems, and considering implementation opportunities and challenges, including demonstration and deployment.

Task 97-6—Revising various regulations to address the safety implications of processor-based signal and train control technologies, including communications-based operating systems. These three tasks were accepted on September 30, 1997, and assigned to a single Working Group.

(Report to the Administrator.) A Data and Implementation Task Force, formed to address issues such as assessment of costs and benefits and technical readiness, completed a report on the future of PTC systems. The report was accepted as RSAC's Report to the Administrator at the September 8, 1999, meeting. FRA enclosed the report with a letter Report to Congress signed May 17, 2000.

(Report to Congress.) The Appropriations Conferees included in their report on the FY 2003 DOT Appropriations Act a requirement for a second review of the costs and benefits of PTC. FRA will request the RSAC to comment on the draft report when available.

(Regulatory development.) The Standards Task Force, formed to develop PTC standards assisted in developing draft recommendations for performance-based standards for processor-based signal and train control systems. The NPRM was approved by consensus at the full RSAC meeting held on September 14, 2000. The NPRM was published in the Federal Register on August 10, 2001. A meeting of the Working Group was held December 4-6, 2001, in San Antonio, Texas to formulate recommendations for resolution of issues raised in the public comments. Agreement was reached on most issues raised in the comments. A meeting was held May 14-15, 2002, in Colorado Springs, Colorado at which the working group approved creation of teams to further explore issues related to the “base case” issue. Briefing of the full RSAC on the “base case” issue was completed on May 29, 2002, and consultations continue within the working group. The full Working Group met October 22-23, 2002, and again March 4-6, 2003. The Risk2 Team is meeting to develop a resolution to the base case issue; and the Accident Review Team is meeting to update the review of preventable accidents. The next full Working Group meeting is July 8-9, 2003.

(Other program development activities.) Task forces on Human Factors and the Axiomatic Safety-Critical Assessment Process (risk assessment) continue to work toward development of a risk assessment toolkit, and the Working Group continues to meet to monitor the implementation of PTC and related projects. Contact: Grady Cothen (202) 493-6302.

Task 97-7—(Completed) Determining damages qualifying an event as a reportable train accident. This Task was accepted on September 30, 1997, and a group was formed to address this task. A statistical analysis, using the survey data about damages to railroad equipment, was done to see if the method could be used to calculate property damages. After reviewing the options, the Working Group agreed to terminate action on this task. The Working Group reviewed a draft close-out report which was approved by the full RSAC on February 13, 2002, terminating this task.

Task 00-1—Determining the need to amend regulations protecting persons who work on, under, or between rolling equipment and persons applying, removing or inspecting rear end marking devices (Blue Signal Protection). The working group held its first meeting on October 16-18, 2000, and six meetings have been held since then. The Working Group has reached tentative consensus on several issues. FRA is preparing documents and planning a meeting in an effort to assist in moving toward resolution of several remaining issues. Contact: Doug Taylor (202) 493-6255.

Task 01-1—(Completed) Developing conformity of FRA's regulations for accident/incident reporting (49 CFR part 225) to revised regulations of the Occupational Safety and Health Administration (OSHA), U.S. Department of Labor, and to make appropriate revisions to the FRA Guide for Preparing Accident/Incident Reports (Reporting Guide). The Final Rule was published March 3, 2003 (68 FR 10108), and will become effective May 1, 2003.

Task 03-01—(Proposed) Amendments to the Passenger Equipment Safety Standards (49 CFR part 238) and the Passenger Train Emergency Preparedness (49 CFR part 239). FRA announces its intent that any further amendments to the Passenger Equipment Safety Standards (49 CFR part 238) and the Passenger Train Emergency Preparedness (49 CFR part 239) regulations be made under the auspices of the RSAC. Both rules arose from rulemakings FRA initiated pursuant to the Federal Railroad Safety Authorization Act of 1994 (the Act). See Pub. L. 103-440, 108 Stat. 4619, 4623-4624, November 2, 1994). The Act mandated the establishment of minimum standards for the safety of cars used by railroad carriers to transport passengers, taking into account the (i) crashworthiness of the cars, (ii) safety of interior features, (iii) maintenance and inspection of the cars, (iv) emergency response procedures and equipment, (v) and any operating rules and conditions directly affecting safety not otherwise governed by regulations. See 49 U.S.C. 20133. Pursuant to the Act, FRA published the Passenger Train Emergency Preparedness final rule on May 4, 1998. See 63 FR 24630. Thereafter, FRA published the Passenger Equipment Safety Standards final rule on May 12, 1999 (see 64 FR 25540), and subsequently amended the regulation three times in response to petitions for reconsideration (see 65 FR 41284, July 3, 2000; 67 FR 19970, April 23, 2002; and 67 FR 42892; June 25, 2002).

With publication of these regulations, FRA believes it has complied with the statutory mandate to establish minimum standards for the safety of cars used by railroad carriers to transport passengers. These regulations constitute a comprehensive set of standards that address both the safety concerns expressly identified in the statute and others affecting passenger and employee safety. FRA recognizes that these regulations can be refined and improved, especially to take advantage of advancing technologies. FRA intends that further amendments to the Passenger Equipment Safety Standards and the Passenger Train Emergency Preparedness regulations be made under the auspices of RSAC. Both regulations benefitted from consultations with working groups specially authorized by the Act to assist FRA in their development. FRA desires that that consultative process continue through RSAC to assist FRA in making any necessary amendments to the regulations. FRA will request the establishment of a new Passenger Safety Working Group to assist in providing overall direction for this effort. Contact: Grady Cothen (202) 493-6302.

Please refer to the notice published in the Federal Register on March 11, 1996 (61 FR 9740), for more information about the RSAC.

Issued in Washington, DC on May 5, 2003.
George A. Gavalla,
Associate Administrator for Safety.

[FR Doc. 03-11777 Filed 5-12-03; 8:45 am]

BILLING CODE 4910-06-P